DEPARTMENT OF THE INTERIOR

Fish and Wildlife Service

[FWS-R4-R-2008-N0250; 40136-1265-0000-S3]

Currituck National Wildlife Refuge, Currituck County, NC

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for Currituck National Wildlife Refuge (NWR).

ADDRESSES: A copy of the CCP may be obtained by writing to: Mike Hoff, Refuge Manager, Mackay Island National Wildlife Refuge, P.O. Box 39, Knotts Island, NC 27950. The CCP may also be accessed and downloaded from the Service's Web site: http://southeast.fws.gov/planning/.

FOR FURTHER INFORMATION CONTACT: Mike Hoff; Telephone: 252/429-3100; Fax: 252/429-3185.

SUPPLEMENTARY INFORMATION:

Introduction

With this notice, we finalize the CCP process for Currituck NWR. We started this process through a notice in the Federal Register on November 3, 2000 (65 FR 66256).

Currituck NWR, in northeastern North Carolina, consists of 4,570 acres of fee simple land and 3,931 acres of conservation easements. Of the fee simple land, 2,202 acres are brackish marsh, 778 acres are brackish shrub, 637 acres are maritime forest, 202 acres are dune, and 143 acres are managed wetlands (impoundments). Currituck NWR was established in 1984 to conserve and protect the coastal barrier island ecosystem. These refuge lands are managed to provide wintering habitat for waterfowl, shorebirds, wading birds, marsh birds, and neotropical migratory songbirds, as well as to protect threatened and endangered species, such as piping plovers, sea turtles, and the sea beach amaranth.

We announce our decision and the availability of the final CCP and FONSI for Currituck NWR in accordance with the National Environmental Policy Act (NEPA) [40 CFR 1506.6(b)] requirements. We completed a thorough analysis of impacts on the human environment, which we included in the Draft CCP/EA. The CCP will guide us in managing and administering Currituck NWR for the next 15 years. Alternative 2 is the foundation for the CCP.

The compatibility determinations for recreational hunting, fishing, wildlife observation, wildlife photography, environmental education and interpretation, and trapping of selected furbearers for nuisance animal management are also available in the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 100 copies of the Draft CCP/EA were made available for a 30-day public review period as announced in the Federal Register on February 9, 2006 (71 FR 6786). Eleven comments on the Draft CCP/EA were received. The Draft CCP/EA identified and evaluated three alternatives for managing the refuge over a 15-year period.

Selected Alternative

After considering the comments we received and based on the professional judgment of the planning team, we selected Alternative 2 for implementation. The preferred alternative will result in moderate program increases. All habitats on the refuge, including water levels of the impoundments and the vegetation, will be managed very intensively for migrating waterfowl. The staff will monitor vegetation in the marshes before and after prescribed burns and inventory vegetation in the maritime swamp forest. The refuge will continue to allow the priority public uses (e.g., hunting, fishing, wildlife observation, wildlife photography, and environmental education and interpretation) and will have the capacity to increase the number of opportunities for public use.

Authority: This notice is published under the authority of the National Wildlife Refuge System Improvement Act of 1997, Public Law 105-57.

Dated: September 29, 2008.
Cynthia K. Dohner,
Acting Regional Director.

[FR Doc. E8-28705 Filed 12-3-08; 8:45 am]

BILLING CODE 4310-55-P